DEPARTMENT OF TRANSPORTATION

Federal Railroad Administration

[Docket No. FRA 2013-0002-N-1]

Proposed Agency Information Collection Activities; Comment Request

AGENCY: Federal Railroad Administration (FRA), Department of Transportation.

ACTION: Notice and request for comments.

SUMMARY: In accordance with the Paperwork Reduction Act of 1995 and its implementing regulations, the Federal Railroad Administration (FRA) hereby announces that it is seeking renewal of the following currently approved information collection activities. Before submitting these information collection requirements (ICRs) for clearance by the Office of Management and Budget (OMB), FRA is soliciting public comment on specific aspects of the activities identified below.

DATES: Comments must be received no later than March 11, 2013.

ADDRESSES: Submit written comments on any or all of the following proposed activities by mail to either: Mr. Robert Brogan, Office of Safety, Planning and Evaluation Division, RRS-21, Federal Railroad Administration, 1200 New Jersey Ave. SE., Mail Stop 25, Washington, DC 20590, or Ms. Kimberly Toone, Office of Information Technology, RAD-20, Federal Railroad Administration, 1200 New Jersey Ave. SE., Mail Stop 35, Washington, DC 20590. Commenters requesting FRA to acknowledge receipt of their respective comments must include a self-addressed stamped postcard stating, “Comments on OMB control number 2130-____.” Alternatively, comments may be transmitted via facsimile to (202) 493-6216 or (202) 493-6497, or via email to Mr. Brogan at Robert.Brogan@dot.gov, or to Ms. Toone at Kimberly.Toone@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave. SE., Mail Stop 25, Washington, DC 20590 (telephone: (202) 493-6292) or Ms. Kimberly Toone, Office of Information Technology, RAD-20, Federal Railroad Administration, 1200 New Jersey Ave. SE., Mail Stop 35, Washington, DC 20590 (telephone: (202) 493-6132). (These telephone numbers are not toll-free.)

SUPPLEMENTARY INFORMATION: The Paperwork Reduction Act of 1995 (PRA), Public Law 104-13, § 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(I)-(iv); 5 CFR 1320.8(d)(1)(I)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of the currently approved ICRs that FRA will submit for clearance by OMB as required under the PRA:

Title: Passenger Equipment Safety Standards.

OMB Control Number: 2130-0544.

Abstract: The information gained from daily inspections is used to detect and correct equipment problems so as to prevent collisions, derailments, and other occurrences involving railroad passenger equipment that cause injury or death to railroad employees, railroad passengers, or to the general public; and to mitigate the consequences of any such occurrences, to the extent that they cannot be prevented. The information provided promotes passenger train safety by ensuring requirements are met for railroad equipment design and performance; fire safety; emergency systems; the inspection, testing, and maintenance of passenger equipment; and other provisions for the safe operation of railroad passenger equipment.

Affected Public: Businesses.

Respondent Universe: 27 railroads.

Frequency of Submission: On occasion; annually.

Reporting Burden
CFR Section | Respondent universe | Total annual responses | Average time per response | Total annual burden hours
229.47: Emergency Brake Valve—Stenciling Locomotives | 27 railroads | 30 stencillings | 1 minute | 1
Stenciling: DMU, MU, Cab Control Locomotives | 27 railroads | 5 stencillings | 1 minute | .08
238.7 Waivers | 27 railroads | 5 waivers | 2 hours | 10
238.15: Movement of Passenger Equip. w/power brake defects: Limitations on movement found during Class I/IA Brake Test | 27 railroads | 1,000 tags/cards | 3 minutes | 50
Limitations on movement of passenger equip. in passenger service that becomes defective en route after Class I/IA brake test | 27 railroads | 288 tags/cards | 3 minutes | 14
Conditional Requirement: Notifications | 27 railroads | 144 Notifications | 3 minutes | 7
238.17: Movement of Passenger Equip. w/Other than Power Brake Defects: Defects Developed En Route | 27 railroads | 200 tags/cards | 3 minutes | 10
Special Requisites For Movement of Equipment w/Safety Appliance Defects | 27 railroads | 76 tags/cards | 3 minutes | 4
Notifications | 22 railroads | 38 notifications | 30 seconds | .32
238.21: Special Approval Procedure: Petitions For Alternative Std. | 27 railroads | 1 petition | 16 hours | 16
Petitions For Alternative Compl. | 27 railroads | 1 petition | 120 hours | 120
238.21: Petitions For Special Approval of Pre-Revenue Service Acceptance Plan | 27 railroads | 10 petitions | 40 hours | 400
Comments | Public/RR Industry | 4 comments | 1 hour | 4
238.103: Fire Safety: Fire Safety Analysis: New Railroads—New Equipment | 2 New Railroads | 2 fire safety analyses | 150 hours | 300
Existing Equipment: Fire Safety Analysis | 27 railroads | 1 analysis | 40 hours | 40
Equipment Transferred to New Service: Fire Safety Analysis | 27 railroads | 3 analyses | 20 hours | 60
238.107: Inspection, Testing, and Maintenance Plan: Annual Reviews | 27 railroads | 12 reviews | 60 hours | 720
238.109: Training, Qualification, and Designation Prog.—Training Employees Who Perform Mechanical Insp. | 7,500 employees; 100 trainers | 2,500 employees trained/100 instructors | 1.33 hours | 3,458
Recordkeeping | 27 railroads | 2,500 records | 3 minutes | 125
238.111: Pre-Revenue Service Acceptance Testing Plan: Equipment Previously Used in Revenue Service | 9 equipment manufacturers | 2 plans | 16 hours | 32
Equipment Not Previously Used in Revenue Service | 9 equipment manufacturers | 2 plans | 192 hours | 384
Subsequent Orders | 9 equipment manufacturers | 2 plans | 60 hours | 120
238.213: Corner Posts—Plan in lieu of meeting requirements of section (b) of this provision | 27 railroads | 10 plans | 40 hours | 400
238.229: Welded Safety Appliances—List identifying each piece of equipment w/a welded safety bracket/support | 27 railroads | 27 lists | 60 minutes | 27
List of passenger equipment placed into service prior to Jan. 1, 2007, with a welded safety appliance | 27 railroads | 27 lists | 60 minutes | 27
Tagging defective welded safety appliance | 27 railroads | 4 tags | 3 minutes | 20
Notification to crewmembers of movement of defective equipment | 27 railroads | 2 notifications | 1 minutes | .0333
Written safety appliance inspection plan to FRA | 27 railroads | 27 plans | 16 hours | 432
Training of RR inspection personnel | 27 railroads | 54 tr. Employees | 4 hours | 216
Remedial action: Record | 27 railroads | 1 record | 2.25 hour | 2
Petition for Special Approval of Alternative Compliance pursuant to section 238.21 | 27 railroads | 15 petitions | 4 hours | 60
Record of inspection/repair of welded safety appliance brackets/supports | 27 railroads | 3,054 records | 12 minutes | 611
238.230: Safety Appliances: New Equipment—Inspection/Record of welded safety appliance brackets/supports | 27 railroads | 100 records | 6 minutes | 10
Documentation to FRA of Other welded safety appliances & safety appliance brackets/supports | 27 railroads | 15 documents | 4 hours | 60
238.231: RR Procedure to secure unattended locomotive required to have a hand brake or parking brake applied | 27 railroads | 27 procedures | 2 hours | 54
238.237: Automated Monitoring—Documentation for setting alerter or deadman control | 27 railroads | 3 documents | 2 hours | 6
Tagging defective alerter or deadman control in locomotive cab | 27 railroads | 25 tags | 3 minutes | 1
238.303: Exterior Calendar Day Inspection of Equip. | 27 railroads | 25 notices | 2 minutes | 1
Defective Dynamic Brakes on MU Locomotive | 27 railroads | 50 tags/cards | 3 minutes | 3
Defective Dynamic Brakes on Conventional Locos | 27 railroads | 50 tags/cards | 3 minutes | 3
MU equipment with inoperative/or ineffective air compressor: documentation of train safety | 27 railroads | 4 documents | 2 hours | 8
Notice to train crew of number of units with inoperative or ineffective air compressors | 27 railroads | 100 notices | 3 minutes | 5
Record of inoperative or ineffective air compressor | 27 railroads | 100 records | 2 minutes | 3
Record of each exterior calendar day mechanical inspection | 27 railroads | 2,376,920 records | 1 minute | 435,769
238.305: Interior Calendar Day Mechanical Insp.: Tagging Req. | 27 railroads | 540 tags | 1 minute | 9
Inspection and Records | 27 railroads | 1,968,980 inspect/records | 5 minutes + 1 minute | 196,898
238.307: Periodic Mechanical Inspection of Pass. Cars: Notification of Alternative Intervals | 27 railroads | 2 notifications | 5 hours | 10
Non-Complying Conditions | 27 railroads | 200 notices | 2 minutes | 7
Inspections and Records of Insp. | 27 railroads | 19,284 inspections/records | 200 hours + 2 minutes | 3,857,443
Reliability Assessments Concerning Alt. Inspection Interval | 27 railroads | 5 documents | 100 hours | 500
238.311: Single Car Test: Movement to Nest Forward Location | 27 railroads | 50 tags | 3 minutes | 3
238.313: Class I Brake Test—Records | 27 railroads | 15,600 records | 30 minutes | 7,800
238.315: Class IA Brake Test | 27 railroads | 18,250 verbal notices | 5 seconds | 25
Communication Signal Tests | 22 railroads | 365,000 tests | 15 seconds | 1,521
238.317: Class II Brake Test: Communication Signal System Test | 27 railroads | 365,000 tests | 15 seconds | 1,521
238.321: Out-of-service credit | 27 railroads | 1,250 notations | 2 minutes | 42
238.445: Automated Monitoring | 1 railroad | 10,000 alerts/alarms | 10 seconds | 28
Self-Tests: Notific | 1 railroad | 21,900 notifications | 20 seconds | 122
238.503/505: FRA approval of written inspection, testing, and maintenance program for Tier II passenger equipment prior to implementation of program & use of equipment in passenger operation | 27 railroads | 1 program/plan | 1,200 hours | 1,200
Comments on program | Public/Interested Rail Parties | 3 comments | 3 hours | 9

Total Responses: 5,151,727.

Estiamated Total Annual Burden: 4,510,711 hours.

Status: Regular Review.

Title: Designation of Qualified Persons.

OMB Control Number: 2130-0511.

Type of Request: Extension of a currently approved collection.

Affected Public: Businesses.

Form(s): N/A.

Abstract: The collection of information is used to prevent the unsafe movement of defective freight cars. Railroads are required to inspect freight cars for compliance and to determine restrictions on the movements of defective cars.

Annual Estimated Burden: 40 hours.

Status: Regular Review.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on January 3, 2013.
Rebecca Pennington,
Chief Financial Officer, Federal Railroad Administration.

[FR Doc. 2013-00221 Filed 1-8-13; 8:45 am]

BILLING CODE 4910-06-P